COMMISSION ON CIVIL RIGHTS

Agenda and Notice of Public Meeting of the Virginia Advisory Committee

Notice is hereby given, pursuant to the provisions of the rules and regulations of the U.S. Commission on Civil Rights, that a meeting of the Virginia Advisory Committee to the Commission will convene at 1:00 p.m. and adjourn at 4:00 p.m. on Wednesday, September 27, 2000, at the City Hall, 2nd Floor, Council Chambers, 605 E. Main Street, Charlottesville, Virginia. The purpose of the meeting is to consider a response to comments by Virginia Governor James Gilmore regarding its recent report, Unequal Justice: African Americans in the Virginia Justice System; and plan new projects. The Committee will appear as guests at a community forum, highlighting the same report, sponsored by the Citizens Advisory Committee for the Charlottesville-Albemarle Public Defender Office, from 6:30 p.m. to 9:00 p.m. at the Buford Middle School, 9th Street SW and Cherry Avenue, Charlottesville, Virginia.

Persons desiring additional information, or planning a presentation to the Committee, should contact Edward Darden, Civil Rights Analyst, of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, August 21, 2000.
Lisa M. Kelly,
Special Assistant to the Staff Director, Regional Programs Coordination Unit.

[FR Doc. 00-21771 Filed 8-24-00; 8:45 am]

BILLING CODE 6335-01-P